DEPARTMENT OF EDUCATION

National Educational Research Policy and Priorities Board; Quarterly Meeting

AGENCY: National Educational Research Policy and Priorities Board; Education.

ACTION: Notice of quarterly meeting.

SUMMARY: This notice sets forth the schedule and proposed agenda of a forthcoming quarterly meeting of the National Educational Research Policy and Priorities Board. Notice of this meeting is required under section 10(a)(2) of the Federal Advisory Committee Act. This document is intended to notify the general public of their opportunity to attend the meeting. Individuals who will need accommodations for a disability in order to attend the meeting (i.e., interpreting services, assistive listening devices, materials in alternative format) should notify Mary Grace Lucier at (202) 219-2253 by June 14. We will attempt to meet requests after this date, but cannot guarantee availability of the requested accommodation. The meeting site is accessible to individuals with disabilities.

DATES: June 28, 2002.

Time: 9 a.m. to 3:30 p.m.

Location: Room 200, Graduate School of Education, the University of Pennsylvania, 3700 Walnut St., Philadelphia, PA, 19104-6216.

FOR FURTHER INFORMATION CONTACT: Mary Grace Lucier, (Acting) Designated Federal Official, National Educational Research Policy and Priorities Board, Washington, DC 20208-7564. Tel.: (202) 219-2353; fax; (202) 219-1528; e-mail: Mary.Grace.Lucier@ed.gov, or nerppb@ed.gov The main telephone number for the Board is (202) 208-0692.

SUPPLEMENTARY INFORMATION: The National Educational Research Policy and Priorities Board is authorized by Section 921 of the Educational Research, Development, Dissemination, and Improvement Act of 1994. The Board works collaboratively with the Assistant Secretary for the Office of Educational Research and Improvement (OERI) to forge a national consensus with respect to a long-term agenda for educational research, development, and dissemination, and to provide advice and assistance to the Assistant Secretary in administering the duties of the Office. The Board will conduct outstanding business in and hear reports from the Assistant Secretary for OERI. It will receive a briefing on the work of the Consortium for Policy Research in Education (CPRE) and on state and local initiatives in education reform. A final agenda will be available from the Board office on June 14, and will be posted on the Board's Web site, http:www.ed.gov/offices/OERI/NERPPB/. Records are kept of all Board proceedings and are available for public inspection at the office of the National Educational Research Policy and Priorities Board, Suite 100, 80 F St., NW, Washington, DC 20208-7564.

Dated: May 22, 2002.
Rafael Valdivieso,
Executive Director.

[FR Doc. 02-13377 Filed 5-28-02; 8:45 am]

BILLING CODE 4000-01-M